AGENCY FOR INTERNATIONAL DEVELOPMENT

Renewal of the Advisory Committee on Voluntary Foreign Aid

AGENCY: United States Agency for International Development.

ACTION: Notice of renewal of advisory committee.

SUMMARY: Pursuant to the Federal Advisory Committee Act, the Administrator has determined that renewal of the Advisory Committee on Voluntary Foreign Aid for a two-year period, beginning January 22, 2003, is necessary and in the public interest.

FOR FURTHER INFORMATION CONTACT: Noreen O'Meara, (202) 712-5979

Dated: January 16, 2003.
Noreen O'Meara,
Director, Advisory Committee on Voluntary Foreign Aid (ACVFA).

[FR Doc. 03-1358 Filed 1-21-03; 8:45 am]

BILLING CODE 6116-01-P